UNITED STATES AFRICAN DEVELOPMENT FOUNDATION

Public Quarterly Meeting of the Board of Directors

AGENCY: United States African Development Foundation.

ACTION: Notice of meeting.

SUMMARY: The U.S. African Development Foundation (USADF) will hold its quarterly meeting of the Board of Directors to discuss the agency's programs and administration. This meeting will occur at the USADF office.

DATES: The meeting date is Tuesday, October 26, 2021, 11:00 a.m. to 12:30 p.m.

ADDRESSES: The meeting will be held by teleconference. Please see contact information for invitation details.

FOR FURTHER INFORMATION CONTACT: Nina-Belle Mbayu, 202-233-8808.

Authority: Public Law 96-533 (22 U.S.C. § 290h).

Dated: October 20, 2021.
Nina-Belle Mbayu,
Acting General Counsel.

[FR Doc. 2021-23193 Filed 10-22-21; 8:45 am]

BILLING CODE 6117-01-P